DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On August 19, 2011, the binational panel issued its decision in the review of the final results of the 2004/2005 antidumping administrative review made by the U.S. Department of Commerce, respecting Stainless Steel Sheet and Strip in Coils from Mexico, NAFTA Secretariat File Number USA-MEX-2007-1904-01. The binational panel affirmed in part and remanded in part the Commerce's determination. Copies of the panel decision are available from the U.S. Section of the NAFTA Secretariat.

FOR FURTHER INFORMATION CONTACT: Ellen M. Bohon, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: On April 14, 2010, the initial decision was issued by this panel remanding to the U.S. Department of Commerce to: (1) Recalculate Mexinox's dumping margins without zeroing, and (2) to recalculate the indirect selling expense ratio (ISE) in a manner not inconsistent with the panel's opinion and affirming Commerce's determinations on all other issues being contested. The Department's decision in the final results of the 2004/2005 antidumping review was, in all other respects, upheld.

On August 19, 2011, with two dissenting views, the panel majority remanded to Commerce its Remand Determination to comply with its instructions in the April 2010 initial decision. The panel directed Commerce to issue its Final Re-determination on this second remand within thirty (30) days from the date of this panel decision.

Dated: September 6, 2011.
Ellen M. Bohon,
U.S. Secretary, NAFTA Secretariat.

[FR Doc. 2011-23160 Filed 9-9-11; 8:45 am]

BILLING CODE 3510-GT-P